INTERNATIONAL TRADE COMMISSION

[Investigation No. 337-TA-644]

In the Matter of Certain Composite Wear Components and Products Containing Same; Notice of Issuance of Limited Exclusion Order and Cease and Desist Order; Termination of Investigation

AGENCY: U.S. International Trade Commission.

ACTION: Notice.

SUMMARY: The United States International Trade Commission hereby provides notice that it has determined to issue a limited exclusion order and cease and desist order and terminate the investigation.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on April 25, 2008, based on a complaint filed by Magotteaux International S/A and Magotteaux, Inc. (collectively, “Magotteaux”). The complaint, as supplemented, alleged violations of section 337 of the Tariff Act of 1930 (19 U.S.C. 1337) in the importation into the United States, the sale for importation, and the sale within the United States after importation of certain composite wear components and products containing the same that infringe claims 12-13 and 16-21 of U.S. Patent No. RE 39,998 (“the `998 patent”). The complaint named Fonderie Acciaierie Rioale S.P.A. (“FAR”), AIA Engineering Ltd., and Vega Industries (collectively, “AIAE Respondents”) as respondents. FAR was subsequently terminated from the investigation on the basis of a settlement agreement, leaving the AIAE Respondents as the only remaining respondents.

On May 8, 2009, the ALJ issued an ID finding the AIAE Respondents in default pursuant to Commission Rules 210.16(a)(2) and 210.17, 19 CFR 210.16(a)(2) and 210.17. On July 7, 2009, the Commission determined not to review the ID and indicated that, in addition to the ALJ's finding of violation pursuant to Rule 210.17, the Commission presumes the facts alleged in the complaint to be true with respect to the AIAE Respondents. The Commission also determined to waive Commission Rule 210.42(a)(ii), which, unless the Commission orders otherwise, requires that the ALJ issue a recommended determination on remedy and bonding in conjunction with any final initial determination concerning violation of section 337. The Commission encouraged the parties to the investigation, interested government agencies, and any other interested parties to file written submissions on the issues of remedy, the public interest, and bonding. The parties to the investigation and the IA filed submissions and response submissions concerning remedy, the public interest, and bonding on July 22, 2009, and July 30, 2009, respectively. No other parties filed submissions.

Having examined the record in this investigation, including the submissions on remedy, the public interest, and bonding and responses thereto, the Commission has determined that the appropriate form of relief is a limited exclusion order and a cease and desist order.

The limited exclusion order prohibits the unlicensed entry for consumption of composite wear components and products containing same that are covered by one or more of claims 12-13 and 16-21 of the `998 patent and that are manufactured abroad by or on behalf of, or are imported by or on behalf of, AIA Engineering Limited or Vega Industries or any of their affiliated companies, parents, subsidiaries, or other related business entities, or their successors or assigns.

The cease and desist order covers products that infringe claims 12-13 and 16-21 of the `998 patent and is directed to defaulting domestic respondent Vega Industries and any of its principals, stockholders, officers, directors, employees, agents, licensees, distributors, controlled (whether by stock ownership or otherwise) and majority owned business entities, successors, and assigns.

The Commission has also determined that the public interest factors enumerated in 19 U.S.C. 1337(d) and (f) do not preclude issuance of the afore-mentioned remedial orders, and that the bond during the Presidential period of review shall be set at 100 percent of the entered value for any covered composite wear components and products containing same.

The authority for the Commission's determinations is contained in section 337 of the Tariff Act of 1930, as amended (19 U.S.C. 1337), and in sections 210.49—210.50 of the Commission's Rules of Practice and Procedure (19 CFR 210.49-210.50).

By order of the Commission.
Issued: November 24, 2009.
William R. Bishop,
Acting Secretary to the Commission.

[FR Doc. E9-28628 Filed 11-30-09; 8:45 am]

BILLING CODE P